DEPARTMENT OF AGRICULTURE

Food and Nutrition Service

Agency Information Collection Activities: Proposed Collection; Comment Request—Forms FNS-806-A, Claim for Reimbursement (National School Lunch and School Breakfast Programs), and FNS-806-B, Claim for Reimbursement (Special Milk Program for Children)

AGENCY: Food and Nutrition Service, USDA.

ACTION: Notice and request for comments.

SUMMARY: In accordance with the Paperwork Reduction Act of 1995, this notice invites the public to comment on the Food and Nutrition Service (FNS) use of Forms FNS-806-A and FNS-806-B, Claims for Reimbursement. The Forms are used to collect data to determine the amount of reimbursement school food authorities participating in the National School Lunch Program (NSLP), School Breakfast Program (SBP), and Special Milk Programs for Children (SMP) are eligible to receive.

DATES: Written comments must be submitted on or before August 7, 2000.

ADDRESSES: Send comments or requests for copies of this information collection to Terry A. Hallberg, Chief, Program Analysis and Monitoring Branch, Child Nutrition Division, Food and Nutrition Service, USDA, 3101 Park Center Drive, Room 1008, Alexandria, Virginia 22302.

Comments are invited on: (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on respondents, including through the use of automated collection techniques or other forms of information technology.

All responses to this notice will be summarized and included in the request for OMB approval. All comments will also become a matter of public record.

FOR FURTHER INFORMATION CONTACT: Terry Hallberg, (703) 305-2590.

SUPPLEMENTARY INFORMATION:

Titles: Forms FNS-806-A, Claim for Reimbursement, (National School Lunch, and School Breakfast Programs), and FNS-806-B, Claim for Reimbursement (Special Milk Program).

OMB Number: 0584-0284.

Expiration Date: May 31, 2000.

Type of Request: Extension of a currently approved collection.

Abstract: The NSLP, SBP and SMP claims for reimbursement forms, FNS-806-A and FNS-806-B, are used to collect meal and cost data from school food authorities whose participation in these programs are administered directly by FNS Regional Offices (Regional Office Administered Programs, or ROAP). In order to determine the amount of reimbursement school food authorities are entitled to receive for meals and milk served, they must complete these forms. The completed forms are submitted to FNS' Regional Offices where they are entered into a computerized payment system. The payment system computes earned reimbursement.

Earned reimbursement in the NSLP, SBP and SMP is based on performance which is measured as an assigned rate per meal or half pint of milk served, with cost comparisons for free milk and severe need breakfasts. To fulfill the earned reimbursement requirements set forth in NSLP, SBP and SMP regulations issued by the Secretary of Agriculture (7 CFR 210.8, 220.11, 215.10), the meal and cost data must be collected on forms FNS-806-A and FNS-806-B. These forms are an intrinsic part of the accounting system being used currently by the subject programs to ensure proper reimbursement as well as to facilitate adequate recordkeeping.

The claims for reimbursement for the NSLP and SBP are on the FNS-806-A and the claims for reimbursement for SMP are on the FNS-806-B.

Estimate of Burden: Public reporting burden for this collection of information is estimated to average .5 hours per response.

Respondents: The respondents are school food authorities and facilities participating in the NSLP, SBP, and SMP under the auspices of the FNS ROAP.

Estimated Number of Respondents Form 806-A: 340.

Estimated Number of Respondents Form 806-B: 180.

Estimated Number of Responses per Respondent Form 806-A: 10.

Estimated Number of Responses per Respondent Form 806-B: 10.

Estimated Total Annual Burden on Respondents Form 806-A: 3400.

Estimated Total Annual Burden on Respondents Form 806-B: 1800.

Estimated Total Number of Respondents: 520.

Estimated Number of Responses per Respondent: 10.

Estimated Total Annual Burden on Respondents: 5200.

Dated: May 30, 2000.
Samuel Chambers, Jr.,
Administrator.

[FR Doc. 00-14095 Filed 6-5-00; 8:45 am]

BILLING CODE 3410-30-U